DEPARTMENT OF THE INTERIOR

Bureau of Land Management

[LLNV056000.L58530000.EU0000; N-81965 et al; 9-08807; TAS: 14X5232]

Correction to Notice of Realty Action: Competitive Online Auction of Public Lands in Clark County, NV

AGENCY: Bureau of Land Management, Interior.

ACTION: Notice of correction.

SUMMARY: This notice corrects a Notice of Realty Action published in the Federal Register, Volume 73, No. 247, pages 78825 through 78827, on Tuesday, December 23, 2008, which listed an incorrect legal land description and omitted the opening date of an online sale auction.

FOR FURTHER INFORMATION CONTACT: Manuela Johnson at manuela_johnson@nv.blm.gov or (702) 515-5224.

SUPPLEMENTARY INFORMATION: The erroneous legal land description is on page 78825, 2nd column, 8th line. The legal land description is corrected to read: SE¼SE¼SW¼NW¼. The opening sale date for the competitive online auction is April 21, 2009.

All other aspects of the notice are correct as published.

Dated: January 16, 2009.
Anna M. Wharton,
Acting Assistant Field Manager, Division of Lands.

[FR Doc. E9-2010 Filed 1-29-09; 8:45 am]

BILLING CODE 4310-HC-P